DEPARTMENT OF AGRICULTURE

Animal and Plant Health Inspection Service

[Docket No. 02-088-2]

RIN 0579-AB47

Agency Information Collection Activities; OMB Approval Received

AGENCY: Animal and Plant Health Inspection Service, USDA.

ACTION: Notice.

SUMMARY: In accordance with the Paperwork Reduction Act, this notice announces the Office of Management and Budget's approval of a collection of information contained in the Animal and Plant Health Inspection Service interim rule establishing the regulations pertaining to possession, use, and transfer of biological agents and toxins.

FOR FURTHER INFORMATION CONTACT: Mrs. Celeste Sickles, APHI' Information Collection Coordinator, MRPBS, APHIS, 4700 River Road Unit 123, Riverdale, MD 20737-1238; (301) 734-7477.

SUPPLEMENTARY INFORMATION:

Background

On December 13, 2002, we published in the Federal Register (67 FR 76908-76938, Docket No. 02-088-1) an interim rule that established the regulations at 7 CFR part 331 and 9 CFR part 121, “Possession, Use, and Transfer of Biological Agents and Toxins.” That rule contains information collection requirements. The Office of Management and Budget (OMB) approved the collection of information requirements with respect to that interim rule under OMB control number 0579-0213 (expires August 31, 2003).

Done in Washington, DC, this 21st day of March, 2003.
Kevin Shea,
Acting Administrator, Animal and Plant Health Inspection Service.

[FR Doc. 03-7493 Filed 3-27-03; 8:45 am]

BILLING CODE 3410-34-P